DEPARTMENT OF ENERGY

Federal Energy Regulatory Commission

[Docket No. CP01-35-000]

Southern Natural Gas Company; Notice of Intent To Prepare an Environmental Assessment for the Proposed Holy Trinity Looping Project and Request for Comments on Environmental Issues

December 14, 2000.

The staff of the Federal Energy Regulatory Commission (FERC or Commission) will prepare an environmental assessment (EA) that will discuss the environmental impacts of the Holy Trinity Looping Project involving construction and operation of facilities by Southern Natural Gas Company (Southern) in Russell County, Alabama and Stewart County, Georgia.¹ These facilities would consist of 7 miles of 16-inch-diameter pipeline looping. No new aboveground facilities would be built. This EA will be used by the Commission in its decision-making process to determine whether the project is in the public convenience and necessity.

¹ Southern's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Southern provided to landowners. This fact sheet addresses a number of typically asked questions, including the use of eminent domain and how to participate in the Commission's proceedings. It is available for viewing on the FERC Internet website (www.ferc.fed.us).

Summary of the Proposed Project

Southern wants to expand its transmission system's capacity to transport natural gas by constructing 7 miles of 16-inch-diameter looping alongside the right-of-way (ROW) of its existing 16-inch diameter pipeline. The required ROW width would include 50 feet of existing ROW and 35 feet of additional temporary ROW for a total construction ROW width of 85 feet. The total after-construction ROW width would be 70 feet. Temporary 25-foot by 100-foot workspaces would be required at wetland, directional drills of waterbodies, and turnaround areas. A 3.87-acre temporary warehouse/pipe storage yard (Warehouse 1) located about 3 miles south of the proposed pipeline on the outskirts of Omaha, Georgia at County Roads 34 and 39 would be required. Another 3.06-acre temporary warehouse/pipe storage yard (Warehouse 2) at milepost 34.0 would be required. The Chattahoochee River at milepost 29.67, a tributary/wetland associated with Hannahatchee Creek at milepost 33.6, and Hannahatchee Creek at milepost 34.6 would all be directionally drilled. Approximately 10 access roads would be required and some of them would be widened.

The locations of the project facilities, warehouse/pipe storage yards, and access roads are shown in appendix 1, figures 1 and 2.²

² The appendices referenced in this notice are not being printed in the Federal Register. Copies are available on the Commission's website at the “RIMS” link or from the Commission's Public Reference and Files Maintenance Branch, 888 First Street, NE., Washington, DC 20426, or call (202) 208-1371. For instructions on connecting to RIMS refer page 5 of this notice. Copies of the appendices were sent to all those receiving this notice in the mail.

Land Requirements for Construction

Construction of the proposed facilities would require the use of 85 acres of land. This includes 43 acres of previously disturbed existing ROW, 25 acres of previously undisturbed temporary ROW, and 17 acres of previously undisturbed permanent ROW.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• geology and soils | • land use.
• water resources, fisheries, and wetlands | • cultural resources.
• vegetation and wildlife | • public safety.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Southern. This preliminary list of issues may be changed based on your comments and our analysis.

• Construction within 300 feet of the Blessed Trinity Mission and nearby sewage treatment pond.

• Construction for approximately 1 mile across the Chattahoochee River floodplain and for approximately 1 mile across the Hannahatchee Creek floodplain.

• Use of a 3.87-acre temporary warehouse/pipe storage yard (Warehouse 1) located on the outskirts of Omaha, Georgia, at County Roads 34 and 39, and use of a 3.06-acre temporary warehouse/pipe storage yard (Warehouse 2) at milepost 34.0 in Stewart County, Georgia.

• The widening of 10 logging roads up to 25 feet wide for use as temporary access roads.

Public Participation

You can make a difference by providing us with your specific comments or concerns about the project. By becoming a commentor, your concerns will be addressed in the EA and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: David P. Boergers, Secretary, Federal Energy Regulatory Commission, 888 First Street, St., NE., Room 1A, Washington, DC 20426.

• Label one copy of the comments for the attention of Gas 2.

• Reference Docket No. CP01-035-000.

• Mail your comments so that they will be received in Washington, DC on or before January 16, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-32385 Filed 12-19-00; 8:00 am]

BILLING CODE 6717-01-M